DEPARTMENT OF THE INTERIOR

Fish and Wildlife Service

Initial Approved Information Collection, OMB Number 1018-____, on Training Applications

AGENCY: Fish and Wildlife Service, Interior.

ACTION: 30-Day Notice; request for comments.

SUMMARY: The U.S. Fish and Wildlife Service is announcing its intention to automate the collection of training applications and provide an optional alternative application specifically for the training conducted by the USFWS National Conservation Training Center. Applicants who wish to participate in training sponsored by the National Conservation Training Center (NCTC) fill out a training request nomination application offered in both hard copy and web registration format. Fish and Wildlife Service employees requesting non NCTC training or conference attendance complete the electronic SF-182 application via the Training Server Application. The USFWS currently utilizes the Office of Personnel Management, Standard Form 182 (Rev 12/79) which was designed with five or ten parts with carbon attachments and to be completed via type writer and is not kept electronically. The new form, which will be used by both Federal and non-Federal applicants is expected to take 3 to 12 minutes to fill out. This burden estimate includes time for reviewing instructions, gathering and maintaining data and completing and reviewing the form.

We will submit the collection of information listed below to the Office of Management and Budget (OMB) for approval under the provisions of the Paperwork Reduction Act of 1995. If you wish to obtain copies of the proposed information collection requirement, related forms, and explanatory material, contact the Collection Clearance Officer at the address listed below.

ADDRESSES: Interested parties should send comments and suggestions on specific requirements to the Office of Information and Regulatory Affairs, Office of Management and Budget, Attention: Interior Desk Officer, New Executive Office Building, 725 17th Street, NW., Washington, DC 20503 and they should send a copy of the comments to Rebecca Mullin, Collection Clearance Officer, U.S. Fish and Wildlife Service, MS 222-ARLSQ; 4401 N. Fairfax Drive, Arlington, VA 22203.

FOR FURTHER INFORMATION CONTACT: To request a copy of the information collection request, explanatory information and related forms, contact Rebecca A. Mullin, Collection Clearance Officer at 703-358-2287, or electronically to: Rebecca_Mullin@fws.gov

SUPPLEMENTARY INFORMATION: OMB regulations at 5 CFR 1320, which implement the provisions of the Paperwork Reduction Act of 1995 (Public Law 104-13), require that interested members of the public and affected agencies have an opportunity to comment on information collection and record keeping activities (see 5 CFR 1320.8(d)). The U.S. Fish and Wildlife Service (We) has submitted a request to OMB to approve collection of information for the Service's training application form. We are requesting a 3-year approval for the information collection activity. Applicants who wish to participate in training sponsored by the National Conservation Training Center (NCTC) fill out a training request nomination application offered in both hard copy and web registration format. Fish and Wildlife Service employees requesting non NCTC training or conference attendance complete the electronic SF-182 application via the Training Server Application.

The USFWS currently utilizes the Office of Personnel Management, Standard Form 182 (Rev 12/79) which was designed with five or ten parts with carbon attachments and to be completed via type writer and is not kept electronically. The new form, which will be used by federal and non-federal applicants is expected to take 3 to 12 minutes to fill out.

We invite comments concerning this information collection on: (1) Whether the collection of information is necessary for the proper performance of the functions of the agency, including whether the information will have practical utility; (2) the accuracy of the agency's estimate of burden, (3) ways to enhance the quality, utility and clarity of the information to be collected; and (4) ways to minimize the burden of the collection of information on those who are to respond. The information collections in this program are part of a system of record covered by the Privacy Act (5 U.S.C. 552a).

Federal agencies may not conduct or sponsor, and a person is not required to respond to, a collection of information unless it displays a currently valid OMB control number.

The information collection requirements in this submission implement the regulatory requirements of the Statute Title 5 U.S.C. Chapter 41, Section 5 CFR part 410, and 231 FW1 Training Management Policy and Responsibilities. The burden listed below applies only to non-Federal applicants who use the new form.

OMB Control Number: 1018-____.

Service Form Number: FWS Form 3-2193.

Frequency of Collection: As training enrollment dictates.

Description of Respondents: All affiliations of persons who wish to participate in training given at or sponsored by the USFWS National Conservation Training Center. These are generally natural conservation related affiliates such as Service employees, Department of the Interior employees, other Federal employees such as EPA, DOD biologists, OPM, state agency personnel, private, not-for-profit agencies such as The Conservation Fund, and university personnel. Only non-Federal applicants and their burden are listed below.

Total Annual Burden Hours: 61.35.

Total Annual Responses: 1227 (non-federal).

Total Annual Non-Hour Cost Burden: $0.

Dated: February 6, 2002.
Rebecca A. Mullin,
Information Collection Officer, U.S. Fish and Wildlife Service.

[FR Doc. 02-3609 Filed 2-14-02; 8:45 am]

BILLING CODE 4310-55-M